DEPARTMENT OF COMMERCE

National Oceanic and Atmospheric Administration

RIN 0648-XD61

Marine Mammals; File No. 10080

AGENCY: National Marine Fisheries Service (NMFS), National Oceanic and Atmospheric Administration (NOAA), Commerce.

ACTION: Notice; receipt of application for amendment.

SUMMARY: Notice is hereby given that Dr. Kathryn A. Ono, Department of Biological Sciences, University of New England, Biddeford, ME, has requested a major amendment to Permit No. 10080 for research on marine mammals.

DATES: Written, telefaxed, or e-mail comments must be received on or before March 12, 2008.

ADDRESSES: The amendment request and related documents are available for review upon written request or by appointment in the following office(s):

Permits, Conservation and Education Division, Office of Protected Resources, NMFS, 1315 East-West Highway, Room 13705, Silver Spring, MD 20910; phone (301) 713-2289; fax (301) 427-2521; and

Northeast Region, NMFS, One Blackburn Drive, Gloucester, MA 01930-2298; phone (978) 281-9300; fax (978) 281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10080.

FOR FURTHER INFORMATION CONTACT: Tammy Adams or Jaclyn Daly, (301) 713-2289.

SUPPLEMENTARY INFORMATION: The amendment is requested under the authority of the Marine Mammal Protection Act of 1972, as amended (MMPA; 16 U.S.C. 1361 et seq.), and the regulations governing the taking and importing of marine mammals (50 CFR part 216).

Permit No. 10080, issued on December 18, 2007 (72 FR 72996) and valid through December 31, 2012, authorizes research to examine expanding populations of the Western North Atlantic stocks of harbor seals (Phoca vitulina concolor) and gray seals (Halichoerus grypus) in the Gulf of Maine. In addition to capture and sampling activities, the permit authorizes harassment of up to 1000 gray seals annually incidental to boat approaches to seals on haul outs. In consideration of the increasing size of this population, the applicant has requested an increase in the number of seals that may be harassed by this activity: up to 2000 annually.

In compliance with the National Environmental Policy Act of 1969 (42 U.S.C. 4321 et seq.), NMFS has initially determined that issuance of the proposed permit is consistent with a category of activities identified in NOAA Administrative Order 216-6 that do not individually or cumulatively have the potential to pose significant impacts on the quality of the human environment and are therefore exempted from further environmental review and requirements to prepare environmental review documents.

Concurrent with the publication of this notice in the Federal Register, NMFS is forwarding copies of this application to the Marine Mammal Commission and its Committee of Scientific Advisors.

Dated: February 5, 2008.
Tammy C Adams,
Acting Chief, Permits, Conservation and Education Division, Office of Protected Resources, National Marine Fisheries Service.

[FR Doc. E8-2489 Filed 2-8-08; 8:45 am]

BILLING CODE 3510-22-S